ENVIRONMENTAL PROTECTION AGENCY

[FRL-8931-8]

Farm, Ranch, and Rural Communities Committee

AGENCY: Environmental Protection Agency (EPA).

ACTION: Notice of meeting.

SUMMARY: Under the Federal Advisory Committee Act, Public Law 92-463, EPA gives notice of a meeting of the Farm, Ranch, and Rural Communities Committee (FRRCC). The purpose of the FRRCC is to provide advice to the Administrator of EPA on environmental issues and programs that impact, or are of concern to, farms, ranches, and rural communities. The FRRCC is a part of EPA's efforts to expand cooperative working relationships with the agriculture industry and others who are interested in agricultural issues and to achieve greater progress in environmental protection.

The purpose of the meeting is to further advance: (1) Discussion of the impacts of Agency agriculture-related programs, policies, and regulations regarding climate change and renewable energy; (2) identification and development of a comprehensive environmental strategy for livestock operations; and (3) development of a constructive approach or framework to address areas of common interest between sustainable agriculture and protection of the environment. A copy of the meeting agenda will be posted at http://www.epa.gov/ocem/frrcc.

DATES: The Farm, Ranch, and Rural Communities Committee will hold an open meeting on Tuesday, August 25, 2009, from 8:30 a.m. (registration at 8 a.m.) until 6 p.m., and Thursday, August 27, 2009, from 8:30 a.m. until 1 p.m. Eastern Daylight Time.

ADDRESSES: The meeting will be held at the Sheraton Grand Hotel, 1230 J Street, Sacramento, CA 95814, telephone: 916-447-1700. The meeting is open to the public, with limited seating on a first-come, first-served basis.

FOR FURTHER INFORMATION CONTACT: Alicia Kaiser, Designated Federal Officer, kaiser.alicia@epa.gov, 202-564-7273, US EPA, Office of the Administrator (1101A), 1200 Pennsylvania Avenue, NW., Washington, DC 20460.

SUPPLEMENTARY INFORMATION: Requests to make brief oral comments or provide written statements to the FRRCC should be sent to Alicia Kaiser, Designated Federal Officer, at the contact information above. All requests must be submitted no later than August 12, 2009.

Meeting Access: For information on access or services for individuals with disabilities, please contact Alicia Kaiser at 202-564-7273 or kaiser.alicia@epa.gov. To request accommodation of a disability, please contact Alicia Kaiser, preferably at least 10 days prior to the meeting, to give EPA as much time as possible to process your request.

Dated: July 8, 2009.
Alicia Kaiser,
Designated Federal Officer.

[FR Doc. E9-16841 Filed 7-14-09; 8:45 am]

BILLING CODE 6560-50-P